DEPARTMENT OF ENERGY

Federal Energy Regulatory Commission

Combined Notice of Filings #1

Take notice that the Commission received the following electric corporate filings:

Docket Numbers: EC25-92-000.

Applicants: Caney River Wind Project, LLC, Rocky Ridge Wind Project, LLC, Chisholm View Wind Project, LLC, Prairie Rose Wind, LLC, Prairie Rose Transmission, LLC, Origin Wind Energy, LLC, Goodwell Wind Project, LLC, Lindahl Wind Project, LLC, Enel Green Power North America, Inc.

Description: Joint Application for Authorization Under Section 203 of the Federal Power Act of Caney River Wind Project, LLC, et al.

Filed Date: 5/28/25.

Accession Number: 20250528-5260.

Comment Date: 5 p.m. ET 6/18/25.

Take notice that the Commission received the following electric rate filings:

Docket Numbers: ER21-2818-010.

Applicants: Tri-State Generation and Transmission Association, Inc.

Description: Compliance filing: Revisions to Rate Schedule No. 281 in Compliance with the April 29 Order to be effective 11/1/2021.

Filed Date: 5/29/25.

Accession Number: 20250529-5210.

Comment Date: 5 p.m. ET 6/20/25.

Docket Numbers: ER22-962-008.

Applicants: PJM Interconnection, L.L.C.

Description: Compliance filing: Compliance Filing to Re-Date Order No. 2222 Participation Model eTariff Records to be effective 2/1/2028.

Filed Date: 5/29/25.

Accession Number: 20250529-5079.

Comment Date: 5 p.m. ET 6/20/25.

Docket Numbers: ER22-2317-000.

Applicants: Portland General Electric Company.

Description: Motion for Deferral of Effective Date of Portland General Electric Company.

Filed Date: 5/1/25.

Accession Number: 20250501-5149.

Comment Date: 5 p.m. ET 6/20/25.

Docket Numbers: ER25-1980-000.

Applicants: Clinton Solar, LLC.

Description: Response to 04/17/2025, tariff Application for Market Based Rate for Clinton Solar, LLC.

Filed Date: 5/23/25.

Accession Number: 20250523-5305.

Comment Date: 5 p.m. ET 6/13/25.

Docket Numbers: ER25-2128-001.

Applicants: Southwest Power Pool, Inc.

Description: Tariff Amendment: 4180R1 Breckinridge Energy Storage Surplus Inter GIA—Amend to be effective 6/30/2025.

Filed Date: 5/29/25.

Accession Number: 20250529-5110.

Comment Date: 5 p.m. ET 6/20/25.

Docket Numbers: ER25-2335-000.

Applicants: Martin County Solar Project, LLC.

Description: § 205(d) Rate Filing: SFA Between Martin I, Martin II, and Martin BESS to be effective 7/24/2025.

Filed Date: 5/28/25.

Accession Number: 20250528-5197.

Comment Date: 5 p.m. ET 6/18/25.

Docket Numbers: ER25-2336-000.

Applicants: Basin Electric Power Cooperative.

Description: § 205(d) Rate Filing: Basin Electric Submits Revised Wholesale Power Contract Rate Schedule No. 11 to be effective 7/27/2025.

Filed Date: 5/28/25.

Accession Number: 20250528-5205.

Comment Date: 5 p.m. ET 6/18/25.

Docket Numbers: ER25-2337-000.

Applicants: Southwest Power Pool, Inc.

Description: § 205(d) Rate Filing: Southwest Power Pool, Inc. submits tariff filing per 35.13(a)(2)(iii): 4391 Southwestern Power Admin/MJMEUC Interconnection Agr to be effective 8/1/2025.

Filed Date: 5/29/25.

Accession Number: 20250529-5026.

Comment Date: 5 p.m. ET 6/20/25.

Docket Numbers: ER25-2338-000.

Applicants: Midcontinent Independent System Operator, Inc., Ameren Illinois Company.

Description: § 205(d) Rate Filing: Ameren Illinois Company submits tariff filing per 35.13(a)(2)(iii): 2025-05-29_SA 4490 Ameren Illinois-Waterloo-IMEA WCA to be effective 7/29/2025.

Filed Date: 5/29/25.

Accession Number: 20250529-5042.

Comment Date: 5 p.m. ET 6/20/25.

Docket Numbers: ER25-2339-000.

Applicants: Southwest Power Pool, Inc.

Description: § 205(d) Rate Filing: 2888R6 Arkansas Electric Cooperative Corp NITSA NOA to be effective 5/1/2025.

Filed Date: 5/29/25.

Accession Number: 20250529-5066.

Comment Date: 5 p.m. ET 6/20/25.

Docket Numbers: ER25-2340-000.

Applicants: Midcontinent Independent System Operator, Inc., Ameren Illinois Company.

Description: § 205(d) Rate Filing: Ameren Illinois Company submits tariff filing per 35.13(a)(2)(iii): 2025-05-29_SA 4486 Ameren Illinois-Bushnell-IMEA WCA to be effective 7/29/2025.

Filed Date: 5/29/25.

Accession Number: 20250529-5072.

Comment Date: 5 p.m. ET 6/20/25.

Docket Numbers: ER25-2341-000.

Applicants: Avista Corporation.

Description: § 205(d) Rate Filing: Avista Corp—LTF PTP Agreement, RS T-1241 AVA LSE to be effective 9/6/2024.

Filed Date: 5/29/25.

Accession Number: 20250529-5085.

Comment Date: 5 p.m. ET 6/20/25.

Docket Numbers: ER25-2342-000.

Applicants: Avista Corporation.

Description: § 205(d) Rate Filing: Avista Corp—LTF PTP Agreement, RS T-1251 AVA LSE to be effective 5/7/2025.

Filed Date: 5/29/25.

Accession Number: 20250529-5101.

Comment Date: 5 p.m. ET 6/20/25.

Docket Numbers: ER25-2343-000.

Applicants: Alton Post Office Solar, LLC.

Description: § 205(d) Rate Filing: Revised Market-Based Rate Tariff to be effective 5/30/2025.

Filed Date: 5/29/25.

Accession Number: 20250529-5130.

Comment Date: 5 p.m. ET 6/20/25.

Docket Numbers: ER25-2344-000.

Applicants: Aspen Road Solar 1, LLC.

Description: § 205(d) Rate Filing: Revised Market-Based Rate Tariff to be effective 5/30/2025.

Filed Date: 5/29/25.

Accession Number: 20250529-5131.

Comment Date: 5 p.m. ET 6/20/25.

Docket Numbers: ER25-2345-000.

Applicants: BR Pacific Hydro Power LLC.

Description: § 205(d) Rate Filing: Revised Market-Based Rate Tariff to be effective 5/30/2025.

Filed Date: 5/29/25.

Accession Number: 20250529-5132.

Comment Date: 5 p.m. ET 6/20/25.

Docket Numbers: ER25-2346-000.

Applicants: Crystal Hill Solar, LLC.

Description: § 205(d) Rate Filing: Revised Market-Based Rate Tariff to be effective 5/30/2025.

Filed Date: 5/29/25.

Accession Number: 20250529-5134.

Comment Date: 5 p.m. ET 6/20/25.

Docket Numbers: ER25-2347-000.

Applicants: Egypt Road Solar, LLC.

Description: § 205(d) Rate Filing: Revised Market-Based Rate Tariff to be effective 5/30/2025.

Filed Date: 5/29/25.

Accession Number: 20250529-5136.

Comment Date: 5 p.m. ET 6/20/25.

Docket Numbers: ER25-2348-000.

Applicants: Foxglove Solar Project, LLC.

Description: § 205(d) Rate Filing: Revised Market-Based Rate Tariff to be effective 5/30/2025.

Filed Date: 5/29/25.

Accession Number: 20250529-5137.

Comment Date: 5 p.m. ET 6/20/25.

Docket Numbers: ER25-2349-000.

Applicants: Franklin Solar LLC.

Description: § 205(d) Rate Filing: Revised Market-Based Rate Tariff to be effective 5/30/2025.

Filed Date: 5/29/25.

Accession Number: 20250529-5138.

Comment Date: 5 p.m. ET 6/20/25.

Docket Numbers: ER25-2350-000.

Applicants: Goose Prairie Solar LLC.

Description: § 205(d) Rate Filing: Revised Market-Based Rate Tariff to be effective 5/30/2025.

Filed Date: 5/29/25.

Accession Number: 20250529-5139.

Comment Date: 5 p.m. ET 6/20/25.

Docket Numbers: ER25-2351-000.

Applicants: Jones Farm Lane Solar, LLC.

Description: § 205(d) Rate Filing: Revised Market-Based Rate Tariff to be effective 5/30/2025.

Filed Date: 5/29/25.

Accession Number: 20250529-5140.

Comment Date: 5 p.m. ET 6/20/25.

Docket Numbers: ER25-2352-000.

Applicants: Spanish Peaks Solar LLC.

Description: § 205(d) Rate Filing: Revised Market-Based Rate Tariff to be effective 5/30/2025.

Filed Date: 5/29/25.

Accession Number: 20250529-5141.

Comment Date: 5 p.m. ET 6/20/25.

Docket Numbers: ER25-2353-000.

Applicants: Spring Grove Solar II, LLC.

Description: § 205(d) Rate Filing: Revised Market-Based Rate Tariff to be effective 5/30/2025.

Filed Date: 5/29/25.

Accession Number: 20250529-5142.

Comment Date: 5 p.m. ET 6/20/25.

Docket Numbers: ER25-2354-000.

Applicants: Sweetland Wind Farm, LLC.

Description: § 205(d) Rate Filing: Revised Market-Based Rate Tariff to be effective 5/30/2025.

Filed Date: 5/29/25.

Accession Number: 20250529-5144.

Comment Date: 5 p.m. ET 6/20/25.

Docket Numbers: ER25-2355-000.

Applicants: White Pine Hydro, LLC.

Description: § 205(d) Rate Filing: Revised Market-Based Rate Tariff to be effective 5/30/2025.

Filed Date: 5/29/25.

Accession Number: 20250529-5145.

Comment Date: 5 p.m. ET 6/20/25.

Docket Numbers: ER25-2356-000.

Applicants: Ninnescah Flats Solar, LLC.

Description: § 205(d) Rate Filing: Application for Market-Based Rate Authorization—Ninnescah Flats ES to be effective 7/29/2025.

Filed Date: 5/29/25.

Accession Number: 20250529-5157.

Comment Date: 5 p.m. ET 6/20/25.

Docket Numbers: ER25-2357-000.

Applicants: Northern Divide Energy Storage, LLC.

Description: § 205(d) Rate Filing: Application for Market-Based Rate Authorization—Northern Divide ES to be effective 7/29/2025.

Filed Date: 5/29/25.

Accession Number: 20250529-5160.

Comment Date: 5 p.m. ET 6/20/25.

Docket Numbers: ER25-2358-000.

Applicants: Steele Flats Energy Storage, LLC.

Description: § 205(d) Rate Filing: Application for Market-Based Rate Authorization—Steele Flats ES to be effective 7/29/2025.

Filed Date: 5/29/25.

Accession Number: 20250529-5166.

Comment Date: 5 p.m. ET 6/20/25.

Docket Numbers: ER25-2359-000.

Applicants: LRE Interconnection Manager, LLC.

Description: § 205(d) Rate Filing: Large Generator Interconnection Agreement Co-Tenancy Agreement to be effective 5/30/2025.

Filed Date: 5/29/25.

Accession Number: 20250529-5169.

Comment Date: 5 p.m. ET 6/20/25.

Docket Numbers: ER25-2360-000.

Applicants: PJM Interconnection, L.L.C.

Description: Tariff Amendment: Notice of Cancellation of GIA, SA No. 7583; AE2-190/AG1-031 re: withdrawal to be effective 7/29/2025.

Filed Date: 5/29/25.

Accession Number: 20250529-5174.

Comment Date: 5 p.m. ET 6/20/25.

Docket Numbers: ER25-2361-000.

Applicants: Elisabeth Solar, LLC.

Description: § 205(d) Rate Filing: Certificate of Concurrence for LGIA Co-Tenancy Agreement to be effective 5/30/2025.

Filed Date: 5/29/25.

Accession Number: 20250529-5196.

Comment Date: 5 p.m. ET 6/20/25.

Docket Numbers: ER25-2362-000.

Applicants: Sierra Pinta Energy Storage, LLC.

Description: § 205(d) Rate Filing: Certificate of Concurrence for LGIA Co-Tenancy Agreement to be effective 5/30/2025.

Filed Date: 5/29/25.

Accession Number: 20250529-5199.

Comment Date: 5 p.m. ET 6/20/25.

Docket Numbers: ER25-2363-000.

Applicants: Louisiana Energy and Power Authority.

Description: Request to Recover Costs Associated with Acting as a Local Balancing Authority of Louisiana Energy and Power Authority.

Filed Date: 5/29/25.

Accession Number: 20250529-5276.

Comment Date: 5 p.m. ET 6/20/25.

Docket Numbers: TX25-6-000.

Applicants: North Johnson Energy Center, LLC.

Description: Application for Order Directing Transmission Service and Interconnection of Facilities of North Johnson Energy Center, LLC.

Filed Date: 5/28/25.

Accession Number: 20250528-5245.

Comment Date: 5 p.m. ET 6/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 29, 2025.
Carlos D. Clay,
Deputy Secretary.

[FR Doc. 2025-10187 Filed 6-4-25; 8:45 am]

BILLING CODE 6717-01-P